DEPARTMENT OF JUSTICE

Office of the Assistant Attorney General for Civil Rights; Certification of the North Carolina Accessibility Code Under the Americans With Disabilities Act; Hearing

AGENCY: Department of Justice.

ACTION: Notice of hearing.

SUMMARY: The Department of Justice will hold an informal hearing in Washington, DC on the proposed certification that the 2002 North Carolina Accessibility Code with 2004 amendments (NCAC) meets or exceeds the new construction and alterations requirements of title III of the Americans with Disabilities Act (ADA).

DATES: The hearing in Washington, DC is scheduled for Monday, June 20, 2005, at 1 p.m. eastern time.

ADDRESSES: The hearing will be held at: Disability Rights Section, 1425 New York Avenue, NW., Suite 4039, Washington, DC.

FOR FURTHER INFORMATION CONTACT: John L. Wodatch, Chief, Disability Rights Section, Civil Rights Division, U.S. Department of Justice, 950 Pennsylvania Avenue, NW., 1425 NYA Building, Washington, DC 20530. Telephone number (800) 514-0301 (Voice) or (800) 514-0383 (TTY).

Copies of this notice are available in formats accessible to individuals with vision impairments and may be obtained by calling (800) 514-0301 (Voice) or (800) 514-0383 (TTY).

SUPPLEMENTARY INFORMATION: On April 8, 2005, the Department of Justice (Department) published a notice in the Federal Register announcing that it had preliminarily determined that the 2002 North Carolina Accessibility code with 2004 amendments (NCAC) meets or exceeds the new construction and alternations requirements of title III of the ADA. The Department also noted that it intended to issue final certification of the NCAC, and requested written comments on the preliminary determination and the proposed final certification. Finally, the Department noted that it intended to hold an informal hearing in Cary, North Carolina.

In addition to the informal hearing in Cary, North Carolina, the Department will hold an informal hearing in Washington, DC to provide another opportunity for interested persons, including individuals with disabilities, to express their views with respect to the preliminary determination of equivalency of the NCAC. Interested parties who wish to testify at the hearing should contact Linda Garrett at (202) 353-0423 TTY, or by e-mail at Linda.Garrett@usdoj.gov.

The meeting site will be accessible to individuals with disabilities. Individuals who require sign language interpreters or other auxiliary aids should contact Linda Garrett at (202) 353-0423 TTY, or by e-mail at Linda.Garrett@usdoj.gov.

Dated: March 31, 2005.
R. Alexander Acosta,
Assistant Attorney General for Civil Rights.

[FR Doc. 05-7033 Filed 4-7-05; 8:45 am]

BILLING CODE 4410-13-M